NUCLEAR REGULATORY COMMISSION

[Docket Nos. 52-025 and 52-026; NRC-2008-0252]

Vogtle Electric Generating Station, Units 3 and 4; Southern Nuclear Operating Company; Liquid Radwaste Consistency Changes

AGENCY: Nuclear Regulatory Commission.

ACTION: Exemption and combined license amendment; issuance.

SUMMARY: The U.S. Nuclear Regulatory Commission (NRC) is granting an exemption to allow a departure from the certification information of Tier 1 of the generic design control document (DCD) and is issuing License Amendment No. 16 to Combined Licenses (COL), NPF-91 and NPF-92. The COLs were issued to Southern Nuclear Operating Company, Inc., and Georgia Power Company, Oglethorpe Power Corporation, Municipal Electric Authority of Georgia, and the City of Dalton, Georgia (the licensee) for construction and operation of the Vogtle Electric Generating Plant (VEGP), Units 3 and 4, located in Burke County, Georgia. The amendment changes the VEGP Tier 1 (COL Appendix C) Figure 2.3.10-1, Liquid Radwaste System (WLS), and Updated Final Safety Analysis Report (UFSAR) Tier 2 tables, text and figures to align VEGP Tier 1 with Tier 2 information provided in the UFSAR and to achieve consistency within VEGP Tier 1 material by (1) changing the safety classification of the Passive Core Cooling System (PXS) and Chemical and Volume Control System (CVS) compartment drain hubs, (2) changing the connection type from the PXS Compartments drains A and B to a header to match the design description, (3) changing the valve types for three valves in the Tier 1 figure to conform to the design description and (4) changing depiction of Tier 1 WLS components to conform to Tier 1 Figure Conventions.

The granting of the exemption allows the changes to Tier 1 information asked for in the license amendment request. Because the acceptability of the exemption was determined in part by the acceptability of the amendment, the exemption and amendment are being issued concurrently.

ADDRESSES: Please refer to Docket ID NRC-2008-0252 when contacting the NRC about the availability of information regarding this document. You may access publicly-available information related to this document using any of the following methods:

• Federal Rulemaking Web site: Go to http://www.regulations.gov and search for Docket ID NRC-2008-0252. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The request for the amendment and exemption were submitted by letter dated August 6, 2013 (ADAMS Accession No. ML13219A074). The licensee supplemented this request on September 16, 2013 (ADAMS Accession No. ML13260A085) and September 27, 2013 (ADAMS Accession No. ML13270A423).

• NRC's PDR: You may examine and purchase copies of public documents at the NRC's PDR, Room O1-F21, One White Flint North, 11555 Rockville Pike, Rockville, Maryland 20852.

FOR FURTHER INFORMATION CONTACT: David H. Jaffe, Office of New Reactors, U.S. Nuclear Regulatory Commission, Washington, DC 20555-0001; telephone: 301-415-1439; email: David.Jaffe@nrc.gov.

SUPPLEMENTARY INFORMATION:

I. Introduction

The NRC is granting an exemption from Paragraph B of Section III, “Scope and Contents,” of Appendix D, “Design Certification Rule for the AP1000,” to part 52 of Title 10 of the Code of Federal Regulations (10 CFR) and issuing License Amendment No. 16 to COLs, NPF-91 and NPF-92, to the licensee. The exemption is required by Paragraph A.4 of Section VIII, “Processes for Changes and Departures,” Appendix D to 10 CFR part 52 to allow the licensee to depart from Tier 1 information. With the requested amendment, the licensee sought changes to the VEGP Tier 1 (COL Appendix C) Figure 2.3.10-1, Liquid Radwaste System (WLS), and UFSAR Tier 2 tables, text and figures to align VEGP Tier 1 with Tier 2 information provided in the UFSAR and to achieve consistency within VEGP Tier 1 material by (1) changing the safety classification of the PXS and CVS compartment drain hubs, (2) changing the connection type from the PXS Compartments drains A and B to a header to match the design description, (3) changing the valve types for three valves in the Tier 1 figure to conform to the design description and (4) changing depiction of Tier 1 WLS components to conform to Tier 1 Figure Conventions.

Part of the justification for granting the exemption was provided by the review of the amendment. Because the exemption is necessary in order to issue the requested license amendment, the NRC granted the exemption and issued the amendment concurrently, rather than in sequence. This included issuing a combined safety evaluation containing the NRC staff's review of both the exemption request and the license amendment. The exemption met all applicable regulatory criteria set forth in 10 CFR 50.12, 10 CFR 52.7, and Section VIII.A.4, Appendix D to 10 CFR Part 52. The license amendment was found to be acceptable as well. The combined safety evaluation is available in ADAMS under Accession No. ML13308A013.

Identical exemption documents (except for referenced unit numbers and license numbers) were issued to the licensee for Vogtle Units 3 and 4 (COLs NPF-91 and NPF-92); these documents can be found in ADAMS under Accession Nos. ML13308A005 and ML13308A006, respectively. The exemption is reproduced (with the exception of abbreviated titles and additional citations) in Section II of this document. The amendment documents for COLs NPF-91 and NPF-92 are available in ADAMS under Accession Nos. ML13305B071 and ML13305B075; respectively. A summary of the amendment documents is provided in Section III of this document.

II. Exemption

Reproduced below is the exemption document issued to Vogtle Units 3 and 4. It makes reference to the combined safety evaluation that provides the reasoning for the findings made by the NRC (and listed under Item 1) in order to grant the exemption:

1. In a letter dated August 6, 2013, and as supplemented by the letters dated September 16, 2013, and September 27, 2013, Southern Nuclear Operating Company (licensee) requested from the Nuclear Regulatory Commission (Commission) an exemption from the provisions of Title 10 of the Code of Federal Regulation (10 CFR) Part 52, Appendix D, Section III.B, “Design Certification Rule for the AP1000 Design, Scope, and Contents,” and Tier 1 Figure 2.3.10-1 of the AP1000 Design Control Document (DCD) as part of license amendment request (LAR) 13-015, “Liquid Radwaste System Consistency Changes.”

For the reasons set forth in Section 3.1 of the NRC staff Safety Evaluation which can be found at ADAMS Accession No. ML13308A013, the Commission finds that:

A. The exemption is authorized by law;

B. the exemption presents no undue risk to public health and safety;

C. the exemption is consistent with the common defense and security;

D. special circumstances are present in that the application of the rule in this circumstance is not necessary to serve the underlying purpose of the rule;

E. the special circumstances outweigh any decrease in safety that may result from the reduction in standardization caused by the exemption; and

F. the exemption will not result in a significant decrease in the level of safety otherwise provided by the design.

2. Accordingly, the licensee is granted an exemption to the provisions of 10 CFR part 52, Appendix D, Section III.B, to allow deviations from the certified DCD Tier 1, Figure 2.3.10-1 as part of license amendment request (LAR) 13-015, “Liquid Radwaste System Consistency Changes.”

3. As explained in Section 5.0 of the NRC staff Safety Evaluation (ADAMS Accession No. ML13308A013), this exemption meets the eligibility criteria for categorical exclusion set forth in 10 CFR 51.22(c)(9). Therefore, pursuant to 10 CFR 51.22(b), no environmental impact statement or environmental assessment needs to be prepared in connection with the issuance of the exemption.

4. This exemption is effective as of the date of its issuance.

III. License Amendment Request

By letter dated August 6, 2013, the licensee requested that the NRC amend the COLs for VEGP, Units 3 and 4, and COLs NPF-91 and NPF-92. The licensee supplemented this application on September 16, 2013, and September 27, 2013. The proposed amendment changes the VEGP Tier 1 (COL Appendix C) Figure 2.3.10-1, WLS, and UFSAR Tier 2 tables, text and figures to align VEGP Tier 1 with Tier 2 information provided in the UFSAR and to achieve consistency within VEGP Tier 1 material by (1) changing the safety classification of the PXS and CVS compartment drain hubs, (2) changing the connection type from the PXS Compartments drains A and B to a header to match the design description, (3) changing the valve types for three valves in the Tier 1 figure to conform to the design description and (4) changing depiction of Tier 1 WLS components to conform to Tier 1 Figure Conventions.

The Commission has determined for these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register on September 3, 2013 (78 FR 54288). The September 16, 2013, and September 27, 2013, supplements had no effect on the no significant hazards consideration determination, and no comments were received during the 60-day comment period.

The Commission has determined that these amendments satisfy the criteria for categorical exclusion in accordance with 10 CFR 51.22(c)(9). Therefore, pursuant to 10 CFR 51.22(b), no environmental impact statement or environmental assessment need be prepared for these amendments.

IV. Conclusion

Using the reasons set forth in the combined safety evaluation, the staff granted the exemption and issued the amendment that the licensee requested on August 6, 2013, and supplemented by letters dated September 16 and September 27, 2013. The exemptions and amendments were issued to the licensee on December 5, 2013 as part of a combined package (ADAMS Accession No. ML13305B061). In the course of the issuance of Amendment 16 and the associated exemptions, an error was made in the date of the initial application; the date which appeared as “August 16, 2013” should have been “August 6, 2013.” The NRC corrected Amendment No. 16 and the associated exemptions for VEGP Units 3 and 4 in a letter dated December 24, 2013 (ADAMS Accession No. ML13354B940). The ADAMS Accession numbers for the corrected exemptions and amendments are unchanged.

Dated at Rockville, Maryland, this 9th day of January 2014.
For the Nuclear Regulatory Commission.
Lawrence J. Burkhart,
Chief, Licensing Branch 4, Division of New Reactor Licensing, Office of New Reactors.

[FR Doc. 2014-00732 Filed 1-15-14; 8:45 am]

BILLING CODE 7590-01-P